DEPARTMENT OF AGRICULTURE

Office of Procurement and Property Management

48 CFR Parts 401, 403, 404, 405, 406, 407, 408, 410, 411, 413, 414, 415, 416, 419, 422, 423, 424, 425, 426, 428, 432, 433, 434, 436, 439, 445, 450, 452, 453

RIN 0599-AA11

Agriculture Acquisition Regulation: Miscellaneous Amendments (AGAR Case 2004-01)

AGENCY: Office of Procurement and Property Management, USDA.

ACTION: Direct final rule; Confirmation of effective date.

SUMMARY: This document confirms the effective date of the direct final rule that makes miscellaneous amendments to the Agriculture Acquisition Regulation (AGAR), 48 CFR ch 4.

DATES: Effective Date: The direct final rule published on January 3, 2005 (70 FR 41-50), is effective April 4, 2005.

FOR FURTHER INFORMATION CONTACT: Joseph J. Daragan, USDA Office of Procurement and Property Management, Procurement Policy Division, STOP 9303, 1400 Independence Avenue, SW., Washington, DC 20250-9303, (202) 720-5729.

SUPPLEMENTARY INFORMATION: In a direct final rule published on January 3, 2005 (70 FR 41-50), we notified the public of our intent to amend the AGAR to reflect changes in the FAR made by Federal Acquisition Circulars (FACs) 97-02 through 2001-24 and to implement changes in USDA delegated authorities and internal procedures since October 2001.

We solicited comments concerning the direct final rule for a 30 day comment period ending February 2, 2005. We stated that the effective date of the proposed amendment would be April 4, 2005, unless we received adverse comments or notice of intent to submit adverse comments by the close of the comment period.

We received neither adverse comments nor notice of intent to submit adverse comments by February 2, 2005. We received one comment objecting to USDA marketing programs and to the burden on taxpayers of rulemaking. This comment is not considered adverse because it raises no objection germane to the substance of the proposed direct final rule. The rule does not address marketing programs, marketing studies or agricultural studies, but establishes procedures for acquisition personnel to follow in researching sources of supply prior to acquiring supplies or services. The general comment concerning taxpayer burden does not relate to this rule or the rulemaking procedures USDA followed in promulgating the rule. Therefore, the direct final rule is effective on April 4, 2005, as scheduled.

Done in Washington, DC, this 21st day of March, 2005.
W.R. Ashworth,
Director, Office of Procurement and Property Management.

[FR Doc. 05-6261 Filed 3-29-05; 8:45 am]

BILLING CODE 3410-96-P